GENERAL SERVICES ADMINISTRATION

[OMB Control No. 3090-0007; Docket No. 2024-0001; Sequence No. 7]

Information Collection; General Services Administration Acquisition Regulation; Contractor Qualifications and Financial Information, GSA Form 527

AGENCY: Office of Acquisition Policy, General Services Administration (GSA).

ACTION: Notice and request for comments.

SUMMARY: In accordance with the Paperwork Reduction Act of 1995, and the Office of Management and Budget (OMB) regulations, GSA invites the public to comment on a request to review and approve an extension of a previously approved information collection requirement regarding contractor qualifications and financial information.

DATES: Submit comments on or before: September 3, 2024.

ADDRESSES: Submit comments regarding this burden estimate or any other aspect of this collection of information, including suggestions for reducing this burden to:

• Regulations.gov: http://www.regulations.gov. Submit comments via the Federal eRulemaking portal searching Information Collection 3090-0007. Select the link “Comment Now” that corresponds with “Information Collection 3090-0007, Contractor's Qualifications and Financial Information, GSA Form 527”. Follow the instructions provided on the screen. Please include your name, company name (if any), and “Information Collection 3090-0007; Contractor's Qualifications and Financial Information, GSA Form 527” on your attached document. If your comment cannot be submitted using https://www.regulations.gov, call or email the points of contact in the FOR FURTHER INFORMATION CONTACT section of this document for alternate instructions.

Instructions: Please submit comments only and cite “Information Collection 3090-0007, Contractor's Qualifications and Financial Information, GSA Form 527”, in all correspondence related to this collection. Comments received generally will be posted without change to regulations.gov, including any personal and/or business confidential information provided. To confirm receipt of your comment(s), please check regulations.gov, approximately two-to-three business days after submission to verify posting.

FOR FURTHER INFORMATION CONTACT: Mr. Bryon Boyer, Procurement Analyst, at gsarpolicy@gsa.gov or 817-850-5580.

SUPPLEMENTARY INFORMATION:

A. Purpose

GSA requires prospective contractors to submit certain financial information for a contracting officer to make a determination that it is financially responsible for an award, in accordance with the Federal Acquisition Regulation (FAR) 9.103(a) and 9.104-1 and also the General Services Administration Acquisition Manual (GSAM) 509.105-1(a). GSA Form 527, Contractor's Qualifications and Financial Information is used to achieve uniformity and consistency in the process.

B. Annual Reporting Burden

Respondents: 868.

Responses per Respondent: 1.2.

Total Responses: 1,042.

Hours per Response: 1.5.

Total Burden Hours: 1,563.

C. Public Comments

Public comments are particularly invited on: Whether this collection of information is necessary for the functions of the General Services Administration Regulation, and whether it will have practical utility; whether our estimate of the public burden of this collection of information is accurate and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division (MVCB), at GSARegSec@gsa.gov. Please cite OMB Control No. 3090-0007, Contractor Qualifications and Financial Information, in all correspondence.

Jeffrey A. Koses,
Senior Procurement Executive, Office of Acquisition Policy, Office of Government-wide Policy.

[FR Doc. 2024-14754 Filed 7-3-24; 8:45 am]

BILLING CODE 6820-61-P